DEPARTMENT OF TRANSPORTATION

Pipeline and Hazardous Materials Safety Administration

[Docket No. PHMSA-2012-0100]

Pipeline Safety: Public Meeting on Integrity Management of Gas Distribution Pipelines

AGENCY: Office of Pipeline Safety, Pipeline and Hazardous Materials Safety Administration, DOT.

ACTION: Notice; public meeting.

SUMMARY: The Pipeline and Hazardous Materials Safety Administration (PHMSA) and the National Association of Pipeline Safety Representatives (NAPSR) are jointly sponsoring a public meeting on Implementing Integrity Management of Gas Distribution Pipelines. The meeting will be held on June 27, 2012, in Fort Worth, Texas. At the meeting, PHMSA/NAPSR will discuss observations from initial inspections of operators' implementation of integrity management requirements for gas distribution pipelines and current regulatory topics affecting distribution pipeline operators. The meeting will also include panel and breakout session discussions involving gas distribution pipeline industry representatives on topics relating to their experiences implementing the distribution integrity management regulation.

DATES: The public meeting will be held on Wednesday, June 27, 2012, from 8 a.m. to 5 p.m. CDT. Name badge pickup and onsite registration will be available starting at 7:30 a.m. Refer to the meeting Web site for a more detailed agenda and times at http://primis.phmsa.dot.gov/meetings/Home.mtg. Please note that the public meeting will be webcast and presentations will be available on the meeting Web site within 30 days following the public meeting.

ADDRESSES: The meeting is open to all. There is no cost to attend. The meeting will be held at the OMNI Hotel, 1300 Houston Street, Fort Worth, TX 76102-6556. Hotel reservations under the “U.S. DOT DIMP” room block for the nights of June 26-27, 2012, can be made at 1-800-843-6664. A daily rate of $139.00 is available. Information about the meeting room will be posted at the hotel on the day of the public meeting.

FOR FURTHER INFORMATION CONTACT: Chris Mclaren, Office of Pipeline Safety at 281-216-4455 or email at chris.mclaren@dot.gov, regarding the subject matter of this notice.

SUPPLEMENTARY INFORMATION: A final rule establishing requirements for assuring the continued integrity of gas distribution pipelines (DIMP) was published on December 4, 2009, (74 FR 63906). The rule required that operators of gas distribution pipelines develop and implement integrity management plans for their pipeline systems by August 2, 2011. PHMSA and states have conducted a number of inspections of gas distribution pipeline operator integrity management programs. Many more inspections will follow. This public meeting is intended to allow PHMSA, NAPSR, and industry representatives to share observations resulting from these initial inspections.

The public meeting is designed to enhance pipeline safety through improved integrity management of natural gas distribution pipeline systems and will consist of presentations and panel discussions provided by a variety of stakeholders. Panel participants will represent industry, PHMSA, and NAPSR. Panels will present information on PHMSA and NAPSR's expectations of implemented distribution integrity management programs (DIMP) and observations from DIMP Inspections conducted by PHMSA and NAPSR. PHMSA and NAPSR will promote compliance with regulations by providing an overview of the rule, including expectations of regulatory definitions (such as identification of threats, methodologies for segmentation of assets for evaluation of risk, risk ranking, measures designed to reduce risk, and measuring and monitoring performance) and discussing methodologies that industry is employing to meet the requirements of the rule. Inspection findings from DIMP inspections conducted by PHMSA and state programs and issue areas and areas of concern will be discussed.

Participants of the public meeting will benefit from (1) hearing their peers explain methods of implementation for certain provisions of the rule and associated questions experienced during program development and implementation; (2) listening to PHMSA, NAPSR, and industry experience on implementing the specific elements of the rule; (3) discussing rule compliance concerns; developing a clearer understanding of the DIMP rule provisions, and (4) participating in the development of additional guidance if deemed necessary through stakeholder feedback.

Interested persons may obtain more information on DIMP by accessing the DIMP Web site through the PHMSA Pipeline Safety Community page at http://www.phmsa.dot.gov/pipeline by selecting “Integrity Management Program (IMP)” and then “Integrity Management—Distribution.”

Preliminary Agenda

• Discuss Implementation of the DIMP Regulation and Regulatory Developments affecting Distribution Operators.

• Regulators' (NAPSR and PHMSA) Perspective on Implementation of the DIMP Regulation.

• Breakout Sessions to discuss various topics regarding the implementation of distribution IM Programs and meeting the requirements of the DIMP rule.

• Presentations from representatives of the breakout sessions, NAPSR, and industry.

Issued in Washington, DC, on June 5, 2012.
Jeffrey D Wiese,
Associate Administrator for Pipeline Safety.

[FR Doc. 2012-13991 Filed 6-7-12; 8:45 am]

BILLING CODE 4910-60-P